DEPARTMENT OF DEFENSE

Office of the Secretary of Defense

[Docket ID: DoD-2025-OS-0021]

Proposed Collection; Comment Request

AGENCY: Office of the Under Secretary of Defense for Personnel and Readiness (OUSD(P&R)), Department of Defense (DoD).

ACTION: 60-Day information collection notice.

SUMMARY: In compliance with the Paperwork Reduction Act of 1995, the Under Secretary of Defense for Personnel and Readiness, announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 8, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Personnel Analytics Center, 4800 Mark Center Drive, Alexandria, VA 22350, Carol Newell, carol.e.newell2.civ@mail.mil.

SUPPLEMENTARY INFORMATION:

Title; Associated Form; and OMB Number: Reserve Component Spouse Survey; OMB Control Number 0704-0653.

Needs and Uses: The DoD Survey of Reserve Component Spouses is the primary source for reliable and generalizable data on the effects of military life on military spouses and their families and the impact of military life on Reserve component war fighter readiness and retention. This data provides vital information on the need for programs and policies under the purview of DoD's Military Community and Family Policy Department. Without this biennial survey, DoD would not have current data to guide limited resources to the appropriate programs, policies, and services related to reserve component spouses, their families, and service members.

This survey provides an opportunity for military spouses to directly expand policy maker's knowledge by sharing their experiences and opinions on issues that directly affect them. Success of current efforts, the impact of activations and deployments, and opportunities to identify areas of need are captured via this biennial survey. These survey results ensure that policy-making decisions are based on current and statistically reliable data regarding the lived experiences of Reserve component families.

The legislation authorizing the USD(P&R) to conduct these surveys is provided under 10 United States Code (U.S.C.), Sections 136, 1782 and 2358, and 37 U.S.C., Section 1008(b).

Affected Public: Individuals or households.

Annual Burden Hours: 8,900.

Number of Respondents: 17,800.

Responses per Respondent: 1.

Annual Responses: 17,800.

Average Burden per Response: 30 minutes.

Frequency: Biennially.

Dated: June 4, 2025.
Stephanie J. Bost,
Alternate OSD Federal Register Liaison Officer, Department of Defense.

[FR Doc. 2025-10425 Filed 6-6-25; 8:45 am]

BILLING CODE 6001-FR-P